CONSUMER PRODUCT SAFETY COMMISSION

Sunshine Act Meeting

TIME AND DATE: Thursday, July 19, 2001, 2 p.m.

LOCATION: Room 420, East West Towers, 4330 East West Highway, Bethesda, Maryland.

STATUS: Open to the public.

Matters to be Considered:

1. CPSC Vice Chairman: The Commission will elect a Vice Chairman.

2. FY 2003 Budget Request: The staff will brief the Commission on issues related to the Commission's budget for fiscal year 2003.

For a recorded message containing the latest agenda information, call (301) 504-0709.

CONTACT PERSON FOR ADDITIONAL INFORMATION: Todd A. Stevenson, Office of the Secretary, 4330 East West Highway, Bethesda, MD 20207 (301) 504-0800.

Dated: July 9, 2001.
Todd A. Stevenson,
Acting Secretary.

[FR Doc. 01-17500 Filed 7-9-01; 3:59 pm]

BILLING CODE 6355-01-M